DEPARTMENT OF TRANSPORTATION

Bureau of Transportation Statistics

[Docket Number: DOT-OST-2017-0043]

Agency Information Collection Activity; Response to Comments on Notice of Request for Approval To Collect New Information: Oil and Gas Industry Safety Data Program

AGENCY: Office of the Assistant Secretary for Research and Technology (OST-R), Bureau of Transportation Statistics (BTS), U.S. Department of Transportation.

ACTION: 30-day Notice and Response to Comments.

SUMMARY: On May 7, 2019, the Bureau of Transportation Statistics (BTS) announced its intention in a Federal Register Notice (83 FR 20139) to request that the Office of Management and Budget (OMB) approve the following information collection: Voluntary Oil and Gas Industry Safety Data Program. The Oil and Gas Industry Safety Data (ISO) program, is a component of BTS's SafeOCS data sharing framework, that provides a trusted, proactive means for the oil and gas industry to report sensitive and proprietary safety information, and to identify early warnings of safety problems and potential safety issues by uncovering hidden, at-risk conditions not previously exposed from analysis of reportable accidents and incidents. The ISD identifies a broader range of data categories to ensure safe performance and appropriate risk management, which adds a learning component to assist the oil and gas industry in achieving improved safety performance. At that time, BTS also encouraged interested parties to submit comments to docket number DOT-OST-2017-0043, allowing for a 60-day comment period. The comment period closed on July 7, 2018. BTS received two non-relevant comments from the anonymous public entities. The purpose of this Notice is to respond to the comments received on the May 7, 2018 announcement and allow 30 days for public comment to OMB on this collection from all interested individuals and organizations.

DATES: Written comments should be submitted by August 17, 2018.

ADDRESSES: BTS seeks public comments on its proposed information collection. Comments should address whether the information will have practical utility; the accuracy of the estimated burden hours of the proposed information collection' ways to enhance the quality, utility and clarity of the information to be collected; and ways to minimize the burden of the collection of information on respondents, including the use of automated collection techniques or other forms of information technology. Send comments to the Office of Information and Regulatory Affairs, Office of Management and Budget, 725 17th Street NW, Washington, DC 20503, Attention: BTS Desk Officer.

FOR FURTHER INFORMATION CONTACT: Demetra V. Collia, Bureau of Transportation Statistics, Office of the Assistant Secretary for Research and Technology, U.S. Department of Transportation, Office of Statistical and Economic Analysis, RTS-31, E36-302, 1200 New Jersey Avenue SE, Washington, DC 20590-0001; Phone No. (202) 366-1610; Fax No. (202) 366-3383; email: demetra.collia@dot.gov. Office hours are from 8:30 a.m. to 5 p.m., EST, Monday through Friday, except Federal holidays.

Data Confidentiality Provisions: The confidentiality of oil and gas industry safety data information submitted to BTS is protected under the BTS confidentiality statute (49 U.S.C. 6307) and the Confidential Information Protection and Statistical Efficiency Act (CIPSEA) of 2002 (Pub. L. 107-347, Title V.) In accordance with these confidentiality statutes, only statistical (aggregated) and non-identifying data will be made publicly available by BTS through its reports. BTS will not release to the Bureau of Safety and Environmental Enforcement (BSEE), or to any other public or private entity, any information that might reveal the identity of individuals or organizations mentioned in failure notices or reports without explicit consent of the respondent and any other affected entities.

SUPPLEMENTARY INFORMATION:

I. The Data Collection

The Paperwork Reduction Act of 1995 (44 U.S.C. chapter 35; as amended) and 5 CFR part 1320 require each Federal agency to obtain OMB approval to initiate an information collection activity. BTS is seeking OMB approval for the following BTS information collection activity:

Title: Oil and Gas Industry Safety Data (ISD) Program.

OMB Control Number: TBD.

Type of Review: Approval of data collection.

Respondent: Oil and gas industry companies involved in the exploration and/or productions working in the Gulf of Mexico (GOM).

Number of Potential Responses: One hundred.

Estimated Time per Response: 40 hours.

Frequency: Annual.

Total Annual Burden: 400 hours.

II. Public Participation and Request for Public Comments

On May 7, 2018, BTS published a Notice (83 FR 20139) encouraging interested parties to submit comments to docket number DOT-OST-2017-0043 and allowing for a 60-day comment period. The comment period closed on July 6, 2018. There were two comments non-relevant to the topic of the Notice. To view comments, go to http://www.regulations.gov and insert the docket number, “DOT-OST-2017-0043” in the “search” box and click “Search.” Next click “Open Docket Folder” button and choose document listed to review. If you do not have access to the internet, you may view the docket by visiting the Docket Management Facility in Room W 12-140 on the ground floor of the DOT West Building, 1200 New Jersey Ave SE, Washington, DC 20590, between 9 a.m. and 5 p.m. Monday through Friday, except Federal holidays.

Privacy Act

All comments the BTS received were posted without change to http://www.regulations.gov. Anyone may search the electronic form of all comments received into any of our dockets by the name of the individual submitting the comment (or of the person signing the comment, if submitted on behalf of an association, business, labor union, etc.) You may review DOT' s complete Privacy Act Statement in the Federal Register published on January 17, 2008 (73 FR 3316), or you may visit http://edocket.access.gpo.gov/2008/pdf/E8-785.pdf).

III. Discussion of Public Comments and BTS Responses

BTS announced on May 7, 2018 in a Federal Register Notice (83 FR 20139) its intention to request that OMB approve the new collection of: Oil and Gas Industry Safety Data Program. BTS received no relevant comment during the 60-day public comment period. The May 7th notice stated that the BTS was seeking approval to collect Industry Safety Data information.

Dated: July 11, 2018.
Patricia Hu,
Director, Bureau of Transportation Statistics, Office of the Assistant Secretary for Research and Technology U.S. Department of Transportation.

[FR Doc. 2018-15316 Filed 7-17-18; 8:45 am]

BILLING CODE 4910-9X-P